PACIFIC NORTHWEST ELECTRIC POWER AND CONSERVATION PLANNING COUNCIL

Amended Columbia River Basin Fish and Wildlife Program

AGENCY: Pacific Northwest Electric Power and Conservation Planning Council (Northwest Power and Conservation Council, Council), an interstate compact agency organized under the authority of the Pacific Northwest Electric Power Planning and Conservation Act of 1980, 16 U.S.C. 839 et seq. (Northwest Power Act).

ACTION: Notice of final action adopting the amended Columbia River Basin Fish and Wildlife Program.

SUMMARY: Pursuant to Section 4(h) of the Northwest Power Act, the Council has amended its Columbia River Basin Fish and Wildlife Program (program). The final amended program may be found on the Council's Web site at http://www.nwcouncil.org/fw/2014F&WProgram/.

BACKGROUND: Pursuant to Section 4(h) of the Northwest Power Act, in March 2013 the Northwest Power and Conservation Council requested in writing that state and federal fish and wildlife agencies, Indian tribes, and others submit recommendations for amendments to the Council's Columbia River Basin Fish and Wildlife Program. The Council received over 1500 pages of recommendations and supporting information from 68 entities and 412 individuals. The Council subsequently received extensive written public comment on the program amendment recommendations.

In May 2014, after reviewing the recommendations, the supporting information, the comments received on the recommendations, and other information in the administrative record, the Council released for public review a draft revised program. The Council received over 1500 pages of substantial written comments on the draft amendments. The Council also took oral testimony at ten public hearings around the region and at regularly scheduled Council meetings. Transcripts of these hearings are in the administrative record along with the written comments. As specified in Section 4(h)(5), the Council also held a number of consultations on the recommendations and draft amendments with representatives of state and federal fish and wildlife agencies, Indian tribes, federal hydrosystem agencies, and customers of the Bonneville Power Administration. Notes from these consultations are also in the administrative record. Relevant documents from the program amendment process, including the recommendations, draft program amendments and comments, may be found on the Council's Web site at http://www.nwcouncil.org/fw/program/2014/.

Following this public review process required by the Northwest Power Act, and after deliberations in public over the course of several Council meetings, the Council adopted the final revised program in October 2014 at a regularly scheduled Council meeting in Pendleton, Oregon. The Council based its decisions on the recommendations, supporting documents, and views and information obtained through public comment and participation and consultation with the agencies, tribes, and customers. In the final step of this program amendment process, at its regularly scheduled March 2015 meeting in Eugene, Oregon, the Council adopted written findings as part of the program explaining its disposition of program amendment recommendations along with responses to comments received on the program amendment recommendations and on the draft amended program. The findings and responses have been made part of the program as Appendix S.

FOR FURTHER INFORMATION CONTACT: Please visit the Council's Web site at www.nwcouncil.org or contact the Council at (503) 222-5161 or toll free (800) 452-5161.

Stephen L. Crow,
Executive Director.

[FR Doc. 2015-06299 Filed 3-18-15; 8:45 am]

BILLING CODE P